DEPARTMENT OF VETERANS AFFAIRS

Advisory Committee on Cemeteries and Memorials, Notice of Meeting

The Department of Veterans Affairs (VA) gives notice under the Federal Advisory Committee Act, 5 U.S.C. App. 2, that a virtual meeting of the Advisory Committee on Cemeteries and Memorials will be held on June 16, 2021—June 17, 2021. The meeting sessions will begin and ends as follows:

Date | Time
Wednesday, June 16, 2021 | 11:00 a.m. to 3:00 p.m. EST.
Thursday, June 17, 2021 | 11:00 a.m. to 3:00 p.m. EST.

The meeting sessions are open to the public. If you are interested in attending the meeting virtually, the dial-in number for both days is 1-404-397-1596, Access Code: 1992672306#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Wednesday, June 16, 2021, the agenda will include remarks by VA Leadership; refresher on Advisory Committee Ethics; best practice tips on the Federal Advisory Committee Act; status update on Tribal/National Cemetery Mentorship Program; burial needs of Native Americans and Alaskan Veterans/emerging trends and cultural awareness; burial needs of the hardest five percent; and public comments.

On Thursday, June 17, 2021, the agenda will include a remarks and recap from committee chair; discussion on the bill for reservist/guardsman; New Charge: HR 7105 Urn/Commemorative Plaque Benefit; update on burial social trends; discussion on outreach and memorialization efforts; recap of charges and action items; public comments; and open discussion.

Any member of the public wishing to attend the meeting should contact Ms. Christine Hamilton, Designated Federal Officer at christine.hamilton1@va.gov or 202-461-5681. Written comments may also be submitted to the committee. In the public's communications with the Committee, the writers must identify themselves and state the organizations, associations, or persons they represent.

Dated: May 17, 2021.
Jelessa M. Burney,
Federal Advisory Committee Management Officer.

[FR Doc. 2021-10682 Filed 5-19-21; 8:45 am]

BILLING CODE P